DEPARTMENT OF LABOR

Employment and Training Administration

[TA-W-65,757]

Corning, Incorporated, Blacksburg Virginia Plant, Environmental Products Division, Christiansburg, VA; Notice of Termination of Investigation

Pursuant to Section 221 of the Trade Act of 1974, as amended, an investigation was initiated on April 6, 2009 in response to a petition filed by the United Steelworkers of America, Local 1022 on behalf of workers of Corning, Incorporated, Blacksburg Virginia Plant, Environmental Products Division, Christiansburg, Virginia.

The petitioner has requested that the petition be withdrawn. Therefore, the investigation under this petition has been terminated.

Signed at Washington, DC, this 27th day of April, 2009.
Linda G. Poole,
Certifying Officer, Division of Trade Adjustment Assistance.

[FR Doc. E9-11873 Filed 5-20-09; 8:45 am]

BILLING CODE 4510-FN-P